DEPARTMENT OF LABOR

Employment and Training Administration

[TA-W-73,013]

Pentron Clinical Technologies, a Wholly-Owned Subsidiary of Kerr Dental/Sybron Dental Specialities, Formally Known as Customedix Corporation, Including On-Site Leased Workers From Reitman Personnel and A.R. Mazzotta, Wallingford, CT; Amended Certification Regarding Eligibility To Apply for Worker Adjustment Assistance

In accordance with section 223 of the Trade Act of 1974, as amended (“Act”), 19 U.S.C. 2273, the Department of Labor issued a Certification of Eligibility to Apply for Worker Adjustment Assistance on January 8th, 2010, applicable to workers of Pentron Clinical Technologies, a subsidiary of Kerr Dental/Sybron Dental Specialties, including on-site leased workers from Reitman Personnel and A.R. Mazzotta, Wallingford, Connecticut. The notice was published in the Federal Register on February 16, 2010 (75 FR 7037).

At the request of the State Agency, the Department reviewed the certification for workers of the subject firm. The workers produce dental materials such as dental prosthetics, dental composites, dental impressions, dental adhesives, and other dental materials.

Information shows that Pentron Clinical Technologies, a subsidiary of Kerr Dental/Sybron Dental Specialties was formally known as Customedix Corporation. Some workers separated from employment at the subject firm had their wages reported under a separate unemployment insurance (UI) tax account under the name Customedix Corporation.

Accordingly, the Department is amending this certification to property reflect this matter.

The intent of the Department's certification is to include all workers of the subject firm who were adversely affected by a shift in production of dental materials such as dental prosthetics, dental composites, dental impressions, dental adhesives, and other dental materials to Mexicali, Mexico.

The amended notice applicable to TA-W-73,013 is hereby issued as follows:

All workers of Pentron Clinical Technologies, a subsidiary of Kerr Dental/Sybron Dental Specialties, formally known as Customedix Corporation, including on-site leased workers from Reitman Personnel and A.R. Mazzotta, Wallingford, Connecticut, who became totally or partially separated from who became totally or partially separated from employment on or after December 2, 2008, through January 13 2012, and all workers in the group threatened with total or partial separation from employment on date of certification through two years from the date of certification, are eligible to apply for adjustment assistance under Chapter 2 of Title II of the Trade Act of 1974, as amended.

Signed at Washington, DC this 22nd day of March 2010.
Elliott S. Kushner,
Certifying Officer, Division of Trade Adjustment Assistance.

[FR Doc. 2010-7320 Filed 3-31-10; 8:45 am]

BILLING CODE 4510-FN-P